DEPARTMENT OF TRANSPORTATION

Federal Aviation Administration

Proposed Changes to Advisory Circular 27-1B, Certification of Normal Category Rotorcraft, and Advisory Circular 29-2C, Certification of Transport Category Rotorcraft

AGENCY: Federal Aviation Administration (FAA), DOT.

ACTION: Notice of availability of proposed Advisory Circular (AC) material and request for comments.

SUMMARY: This notice announces the availability of and requests comments on proposed new material to be added to AC 27-1B, Certification of Normal Category Rotorcraft, and AC 29-2C, Certification of Transport Category Rotorcraft. This proposed material adds a new paragraph MG 18, Helicopter Terrain Awareness and Warning System (HTAWS). This notice is necessary to give all interested persons an opportunity to comment on the proposed AC change.

DATES: We must receive your comments by August 9, 2004.

ADDRESSES: Send all comments on the proposed AC paragraph to the Federal Aviation Administration, Attn: James R. Arnold, Regulations and Policy Group, ASW-111, 2601 Meacham Boulevard, Fort Worth, TX 76193-0111; e-mail: James.R.Arnold@faa.gov, or fax: 817-222-5961. You may inspect comments at the above address between 7:30 a.m. and 4 p.m. weekdays, except Federal holidays.

FOR FURTHER INFORMATION CONTACT: James R. Arnold, telephone: (817) 222-5126; fax (817) 222-5961.

SUPPLEMENTARY INFORMATION:

Comments Invited

We invite all interested persons to comment on the proposed AC by submitting such written data, views, or arguments as they may desire. If you have comments, you should identify AC 27-1B and AC 29-2C, AC paragraph MG 18, and submit your comments, in duplicate, to the address specified above. We will consider all communications received by the closing date before issuing the final AC. You can get a copy of the proposed material by contacting the person named under the caption FOR FURTHER INFORMATION CONTACT or by downloading the proposed AC from the following Internet Web site: http://www.airweb.faa.gov/rgl.

Background

A harmonized team of FAA, other airworthiness authorities, and members of the rotorcraft industry developed this material. Except for references, the text is the same in MG 18 for both AC 27-1B and AC 29-2C. When these AC paragraphs are finalized, they will be posted on the Internet Web site as accepted, and they will be published in the next updates to AC 27-1B and AC 29-2C.

Issued in Fort Worth, Texas, on June 30, 2004.
Mark Schilling,
Acting Manager, Rotorcraft Directorate, Aircraft Certification Service.

[FR Doc. 04-15646 Filed 7-8-04; 8:45 am]

BILLING CODE 4910-13-M